DEPARTMENT OF HEALTH AND HUMAN SERVICES

Food and Drug Administration

[Docket No. FDA-2015-N-0456]

Pediatric Stakeholder Meeting; Request for Comments; Correction

AGENCY: Food and Drug Administration, HHS.

ACTION: Notice; correction.

SUMMARY: The Food and Drug Administration is correcting a document entitled “Pediatric Stakeholder Meeting; Request for Comments” that appeared in the Federal Register of February 26, 2015 (80 FR 10493). The document announced a public meeting seeking input from patient groups, consumer groups, regulated industry, academia and other interested parties to obtain any recommendations or information relevant to the report to Congress that FDA is required to submit concerning pediatrics, as outlined in the Food and Drug Administration Safety and Innovation Act (FDASIA). The document was published with the incorrect docket number. This document corrects that error.

FOR FURTHER INFORMATION CONTACT: Lisa Granger, Office of Policy, Planning, Legislation, and Analysis, Food and Drug Administration, 10903 New Hampshire Ave., Bldg. 32, Rm. 3330, Silver Spring, MD 20993, 301-796-9115.

SUPPLEMENTARY INFORMATION: In the Federal Register of February 26, 2015, in FR Doc. 2015-03974, on page 10493, the following correction is made:

On page 10493, in the first column, the Docket No. heading, “[Docket No. FDA-20115-N-0456]” is corrected to read “[Docket No. FDA-2015-N-0456]”.

Dated: March 17, 2015.
Jill Hartzler Warner,
Associate Commissioner for Special Medical Programs.

[FR Doc. 2015-06426 Filed 3-19-15; 8:45 am]

BILLING CODE 4164-01-P